DEPARTMENT OF TRANSPORTATION

Federal Aviation Administration

Public Notice for Intent To Release Airport Property

AGENCY: Federal Aviation Administration (FAA), DOT.

ACTION: Notice of intent to rule on request to release airport property for non-aeronautical use; Fairbanks International Airport (FAI), Fairbanks, Alaska.

SUMMARY: The FAA proposes to rule and invites public comment on the release of the aeronautical use only provision for land at the Fairbanks International Airport, Fairbanks, Alaska.

DATES: Comments must be received on or before September 26, 2019.

ADDRESSES: Documents are available for review by appointment at the FAA Anchorage Airports Regional Office, Molly Lamrouex, Compliance Manager, 222 W 7th Avenue, Anchorage, AK. Telephone: (907) 271-5439/Fax: (907) 271-2851 and the Fairbanks International Airport, 6450 Airport Way, Suite 1, Fairbanks, AK 99709. Telephone: (907) 474-2549.

Written comments on the Sponsor's request must be delivered or mailed to: Molly Lamrouex, Compliance Manager, Federal Aviation Administration, Airports Anchorage Regional Office, 222 W 7th Avenue, Anchorage, AK 99513. Telephone Number: (907) 271-5439/FAX Number: (907) 271-2851.

FOR FURTHER INFORMATION CONTACT: Molly Lamrouex, Compliance Manager, Federal Aviation Administration, Alaskan Region Airports District Office, 222 W 7th Avenue, Anchorage, AK 99513. Telephone Number: (907) 271-5439/FAX Number: (907) 271-2851.

SUPPLEMENTARY INFORMATION: The FAA invites public comment on the request to release the aeronautical use only grant provision for Block 120, consisting of approximately 104,200 square feet (2.4 acres), at the Fairbanks Airport (FAI) under the provisions of 49 U.S.C. 47107(h)(2). The Alaska Department of Transportation and Public Facilities has requested from the FAA that a portion of airport property already in use as a land farm to remediate contaminated soil be retroactively released for non-aeronautical use. The land farm is accepting contaminated soil for remediation to facilitate on-airport development and has been approved by the Alaska Department of Environmental Conservation. The FAA has determined that the release of the property will not adversely impact future aviation needs at the airport. The FAA may approve the request, in whole or in part, no sooner than 30 days after the publication of this notice.

The disposition of proceeds from the non-aeronautical use of the airport property will be in accordance with FAA's Policy and Procedures Concerning the Use of Airport Revenue, published in the Federal Register on February 16, 1999 (64 FR 7696).

Issued in Anchorage, Alaska, on August 21, 2019.
Matthew K. Stearns,
Acting Director, Alaskan Airports Regional Office, FAA, Alaskan Region.

[FR Doc. 2019-18349 Filed 8-26-19; 8:45 am]

BILLING CODE 4910-13-P